DEPARTMENT OF VETERANS AFFAIRS

Advisory Committee on Disability Compensation, Notice of Meeting

The Department of Veterans Affairs (VA) gives notice under the Federal Advisory Committee Act, 5 U.S.C. App. 2, that a virtual meeting of the Advisory Committee on Disability Compensation (the Committee) will begin and end as follows:

Dates | Times
Tuesday, March 16, 2021 | 9:00 a.m.-12:00 p.m. Eastern Standard Time (EST).
Wednesday, March 17, 2021 | 9:00 a.m.-12:00 p.m. EST.

The virtual meeting is open to the public.

The purpose of the Committee is to advise the Secretary of Veterans Affairs on the maintenance and periodic readjustment of the VA Schedule for Rating Disabilities.

The Committee is to assemble and review relevant information relating to the nature and character of disabilities arising during service in the Armed Forces, provide an ongoing assessment of the effectiveness of the rating schedule, and give advice on the most appropriate means of responding to the needs of Veterans relating to disability compensation.

The agenda will include, but is not limited to, briefings on the VA Schedule for Rating Disabilities and on relevant earnings and losses studies.

Time will not be allocated at this virtual meeting for receiving oral presentations from the public. However, interested individuals may submit a one (1) to two (2) page summary of their written statements for the Committee's review. Public statements may be received no later than February 12, 2021; for inclusion in the official meeting record. Please send these to Sian Roussel of the Veterans Benefits Administration, Compensation Service at Sian.Roussel@va.gov.

Members of the public who wish to obtain a copy of the agenda should contact Sian Roussel at Sian.Roussel@va.gov and provide his/her name, professional affiliation, email address and phone number.

The call-in number for those who would like to attend the meeting is 1-800-767-1750; access code: 75937#.

Dated: January 27, 2021.
Jelessa M. Burney,
Federal Advisory Committee Management Officer.

[FR Doc. 2021-02042 Filed 1-29-21; 8:45 am]

BILLING CODE P